DEPARTMENT OF THE INTERIOR

Fish and Wildlife Service

[FWS-R9-FHC-2008-N0053; 94410-1342-0000-N3-N5]

Aquatic Nuisance Species Task Force Meeting

AGENCY: Fish and Wildlife Service, Interior.

ACTION: Notice of meeting.

SUMMARY: This notice announces a meeting of the Aquatic Nuisance Species (ANS) Task Force. The meeting is open to the public. The meeting topics are identified in the SUPPLEMENTARY INFORMATION section.

DATES: The ANS Task Force will meet from 8 a.m. to 5 p.m. on Tuesday, April 29, and Wednesday, April 30, and from 8 a.m. to 12 p.m. on Thursday, May 1, 2008.

ADDRESSES: The ANS Task Force meeting will take place at the Sheraton North Charleston Hotel, 4770 Goer Drive, North Charleston, SC 29406; (843) 747-1900. You may inspect minutes of the meeting at the office of the Chief, Division of Fish and Wildlife Management and Habitat Restoration, U.S. Fish and Wildlife Service, 4401 North Fairfax Drive, Arlington, VA 22203, during regular business hours, Monday through Friday. You may also view the minutes on the ANS Task Force Web site at: http://anstaskforce.gov/meetings.php.

FOR FURTHER INFORMATION CONTACT: Darren Benjamin, Branch of Invasive Species, at (703) 358-2018, or by e-mail at Darren _Benjamin@fws.gov.

SUPPLEMENTARY INFORMATION: Pursuant to section 10(a)(2) of the Federal Advisory Committee Act (5 U.S.C. App.), this notice announces meetings of the ANS Task Force. The ANS Task Force was established by the Nonindigenous Aquatic Nuisance Prevention and Control Act of 1990.

Topics the ANS Task Force plans to cover during the meetings include: Gulf and South Atlantic Regional Panel presentations, Regional Panel ANS issues and recommendations, and consideration for approval of state ANS management plans. The agenda and other related meeting information are on the ANS Task Force Web site at: http://anstaskforce.gov/meetings.php.

Dated: March 7, 2008.
Gary Frazer,
Co-Chair, Aquatic Nuisance Species Task Force, Assistant Director—Fisheries & Habitat Conservation.

[FR Doc. E8-7442 Filed 4-8-08; 8:45 am]

BILLING CODE 4310-55-P